DEPARTMENT OF AGRICULTURE

Submission for OMB Review; Comment Request

April 4, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: 7 CFR 1944-B, Housing Applications Packaging Grants.

OMB Control Number: 0575-0157.

Summary of Collection: Section 509 of the Housing Act of 1949, as amended, authorizes the Rural Housing Service (RHS) to make grants to private and public nonprofit organizations and State and local governments to package housing applications for section 502, 504, 514/515 and 533 to colonias and designated counties. Eligible organizations aid very low and low-income individuals and families in obtaining benefits from RHS housing programs. Various forms are used to confirm income verification for loan applicants, as a checklist to obtain a loan, and to check credit information about the applicants.

Need and Use of the Information: RHS field personnel will use this information to verify program eligibility requirements, to secure grant assistance, and for approval of housing application-packaging grants. The information will ensure that the program is administered in a manner consistent with legislative and administrative requirements. Without this information, RHS would be unable to determine if a grantee qualifies for grant assistance.

Description of Respondents: Not-for-profit institutions; Business or other for-profit; and State, Local, or Tribal Government.

Number of Respondents: 300.

Frequency of Responses: Recordkeeping; Reporting: On occasion.

Total Burden Hours: 1,500.

Charlene Parker,
Departmental Information Collection Clearance Officer.

[FR Doc. E6-5157 Filed 4-7-06; 8:45 am]

BILLING CODE 3410-XT-P